ENVIRONMENTAL PROTECTION AGENCY

[FRL-8696-5]

EPA Science Advisory Board Staff Office; Request for Nominations of Experts for a Science Advisory Board Committee To Provide Advice on Future Development of EPA's Report on the Environment

AGENCY: Environmental Protection Agency (EPA).

ACTION: Notice.

SUMMARY: The U.S. Environmental Protection Agency (EPA or Agency) Science Advisory Board (SAB or the Board) Staff Office is soliciting nominations of nationally recognized scientists for consideration of membership on an SAB committee to provide advice on future development of EPA's Report on the Environment (ROE).

DATES: Nominations should be submitted by August 13, 2008 per the instructions below.

FOR FURTHER INFORMATION CONTACT: For information regarding this Request for Nominations please contact Dr. Thomas Armitage, Designated Federal Officer (DFO), EPA Science Advisory Board (1400F), U.S. Environmental Protection Agency, 1200 Pennsylvania Avenue, NW., Washington, DC 20460, or via telephone/voice mail (202) 343-9995; fax (202) 233-0643; or e-mail at armitage.thomas@epa.gov. General information concerning the EPA SAB can be found on the SAB Web site at: http://www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. C) and related regulations. Generally, SAB meetings are announced in the Federal Register, conducted in public view, and provide opportunities for public input during deliberations. Additional information about the SAB and its committees can be obtained on the SAB Web site at: http://www.epa.gov/sab.

EPA recently published its 2008 Report on the Environment (hereinafter referred to as ROE 2008). This report is available on the EPA Office of Research and Development Web site at: http://cfpub.epa.gov/ncea/cfm/recordisplay.cfm?deid=190806. In the ROE 2008, EPA presents environmental and human health indicator information to represent the status of and trends in the condition of the nation's environment. The ROE will be used by EPA to: (1) Inform strategic planning, priority setting, and decision making across the Agency, and (2) provide information to enable the public to assess whether EPA is succeeding in its overall mission to protect human health and the environment. Individual chapters in the ROE 2008 provide information on the condition of air, water, and land environments. The air chapter focuses outdoor and indoor air quality and greenhouse gases. The water chapter addresses the condition of surface waters, watersheds, ground water, wetlands, coastal waters, drinking water, recreational waters, and consumable fish and shellfish. The land chapter contains indicator information on land cover, land use, wastes on land, chemicals used on land, and contaminated land. Two other chapters in the ROE 2008 focus on human health and ecological condition. The human health chapter provides indicator information on human disease and disease conditions and environmental exposure to pollutants. The ecological condition chapter provides indicator information on the extent and distribution of ecological systems, diversity and biological balance of ecological systems, ecological processes, critical physical and chemical attributes, and exposure to pollutants. The environmental indicators in the ROE 2008 were selected to answer broad questions deemed to be of critical importance to EPA's mission. The ROE 2008 incorporates SAB comments on earlier drafts of the ROE dated 2003 and 2007. The findings and recommendations of these previous SAB reviews are available on the SAB Web site at: http://www.epa.gov/sab (see reports EPA-SAB-05-004 and EPA-SAB-08-007). EPA expects to modify future editions of the ROE based on long-term recommendations in the SAB review of the draft 2007 ROE. This notice specifically requests nominations for candidates to serve on a new SAB committee that will provide advice to EPA over the next few years on how to: (1) Address previous SAB recommendations to improve future versions of the ROE, and (2) make the ROE more useful to EPA in informing planning and decision making and providing information to the public. The Committee will ultimately review the next version of the ROE expected to be published in 2012.

Expertise Sought: The SAB Staff Office requests nominations of recognized experts from a wide range of scientific and engineering disciplines with experience and expertise in: designing, implementing, applying and/or communicating indicator information and data at regional and national scales to evaluate the condition of air, water, and/or land environments, human health, and/or ecological condition to inform planning, policy, and decision making. Nominations of experts in various disciplines are requested including: (a) Environmental scientists and engineers with knowledge of the sources, fate, and transport of air pollutants and outdoor and indoor air quality indicators; (b) aquatic biologists, ecologists, hydrologists, chemists, oceanographers and microbiologists with expertise in assessing the condition of surface water, ground water, drinking water, wetlands, coastal waters, and/or recreational waters; (c) environmental scientists, ecologists, soil scientists, and environmental engineers with expertise in the use of indicators (e.g., land cover, land use, wastes on land, chemicals used on land, and contaminated land) to assess the condition of land; (d) health scientists (e.g., in the fields of public health, epidemiology, medicine, and risk assessment) with expertise in assessing human exposure to environmental pollutants, health risks associated with environmental pollutants, and/or indicators for assessing human health condition; e) ecologists with expertise in the use of indicators to assess the ecological effects of exposure to pollutants and the condition of whole ecosystems; (f) statisticians with expertise in analysis of environmental information to determine the status of and trends in environmental condition; and (g) decision scientists, social scientists, communication scientists, and environmental economists with expertise in using and/or communicating environmental indicator information and formulating environmental policy.

How to Submit Nominations: Any interested person or organization may nominate qualified individuals to be considered for appointment on this SAB committee. Candidates may also nominate themselves. Nominations should be submitted in electronic format (which is preferred over hard copy) following the instructions for “Nominating Experts to Advisory Panels and Ad Hoc Committees Being Formed” provided on the SAB Web site. The form can be accessed through the “Public Involvement in Advisory Committee” link on the blue navigational bar on the SAB Web site at: http://www.epa.gov/sab. To receive full consideration, nominations should include all of the information requested.

EPA's SAB Staff Office requests contact information about: the person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Dr. Thomas Armitage, DFO, at the contact information provided above in this notice. Non-electronic submissions must follow the same format and contain the same information as the electronic.

The SAB Staff Office will acknowledge receipt of the nomination and inform nominees of the committee for which they have been nominated. From the nominees identified by respondents to this Federal Register notice (termed the “Widecast”) and other sources, the SAB Staff Office will develop a smaller subset (known as the “Short List”) for more detailed consideration. The Short List will be posted on the SAB Web site at: http://www.epa.govc/sab and will include, for each candidate, the nominee's name and biosketch. Public comments on the Short List will be accepted for 21 calendar days. During this comment period, the public will be requested to provide information, analysis, or other documentation on nominees that the SAB Staff Office should consider in evaluating candidates for the Committee.

For the SAB, a balanced committee is characterized by inclusion of candidates who possess the necessary domains of knowledge, the relevant scientific perspectives (which, among other factors, can be influenced by work history and affiliation), and the collective breadth of experience to adequately address the charge. Public responses to the Short List candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; and (e) ability to work constructively and effectively in committees.

Short List candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address at: http://www.epa.gov/sab/pdf/epaform3110-48.pdf.

Dated: July 17, 2008.
Anthony F. Maciorowski,
Deputy Director, EPA Science Advisory Board Staff Office.

[FR Doc. E8-16832 Filed 7-22-08; 8:45 am]

BILLING CODE 6560-50-P